DEPARTMENT OF ENERGY

Federal Energy Regulatory Commission

[Docket No. EC05-16-000, et al.]

National Energy & Gas Transmission, Inc., et al.; Electric Rate and Corporate Filings

November 10, 2004.

The following filings have been made with the Commission. The filings are listed in ascending order within each docket classification.

1. National Energy & Gas Transmission, Inc.; The Goldman Sachs Group, Inc.

[Docket No. EC05-16-000]

Take notice that on November 4, 2004 National Energy & Gas Transmission, Inc. (NGET) and The Goldman Sachs Group, Inc. (GS Group), filed with the Federal Energy Regulatory Commission an application pursuant to section 203 of the Federal Power Act for authorization for disposition of jurisdictional assets related to NEGT's transfer of more than 5 percent of new NEGT common stock to a subsidiary of GS Group in order to implement a proposed plan of reorganization filed with the United States Bankruptcy Court for the District of Maryland (Greenbelt Division) as more fully described in the Application.

Comment Date: 5 p.m. eastern time on November 26, 2004.

2. Logan Generating Company, L.P.; Madison Windpower, LLC; Plains End, LLC; National Energy & Gas Transmission, Inc.; GS Power Holdings II, LLC

[Docket No. EC05-17-000]

Take notice that on November 4, 2004, Logan Generating Company, L.P.; Madison Windpower, LLC; Plains End, LLC (together, the NEGT Project Companies); National Energy & Gas Transmission, Inc. (NEGT); and GS Power Holdings II, LLC (GS Power) filed with the Federal Energy Regulatory Commission an application pursuant to section 203 of the Federal Power Act for authorization to permit GS Power to acquire NEGT's indirect equity ownership interest in the NEGT Project Companies.

Comment Date: 5 p.m. eastern time on November 26, 2004.

3. Tenaska Frontier Partners, Ltd., Complainant v. Entergy Gulf States, Inc. and Entergy Services, Inc., Respondents

[Docket No. EL05-21-000]

Take notice that on November 8, 2004, Tenaska Frontier Partners, Ltd. (Frontier) filed a Complaint, pursuant to Section 206 of the Federal Power Act, against Entergy Gulf States, Inc. and Entergy Services, Inc. (collectively, Entergy). The Complaint asserts that Entergy is violating the Commission's Interconnection Policy, engaging in prohibited “and” pricing, and charging unjust and unreasonable rates because Entergy has misclassified certain interconnection-related facilities in the Frontier-Entergy Interconnection Agreement and is refusing to provide transmission credits for facilities that should properly be classified as Network Upgrades under the Commission's Interconnection Policy.

Frontier states that copies of the Complaint have been served on Entergy.

Comment Date: 5 p.m. eastern time on November 26, 2004.

4. El Paso Electric Company

[Docket No. ER99-2416-003]

Take notice that, on November 2, 2004, El Paso Electric Company (EPE) submitted a compliance filing pursuant to the Commission's November 17, 2003 Order Amending Market-Based Rate Tariffs and Authorizations in Dockets No. EL01-118-000 et al., Investigation of Terms and Conditions of Public Utility Market-Based Rate Authorizations, 105 FERC ¶ 61,218 (2003), order on reh'g, 107 FERC ¶ 61,175 (2004).

El Paso Electric Company states that copies of the filing were served on parties on the official service list in the above-captioned proceeding.

Comment Date: 5 p.m. eastern time on November 23, 2004.

5. Midwest Independent Transmission System Operator, Inc.

[Docket Nos. ER03-86-007 and ER03-83-006]

Take notice that on November 2, 2004, the Midwest Independent Transmission System Operator, Inc. (Midwest ISO), filed a supplement to its compliance filing submitted on October 29, 2004 pursuant to the Commission's Letter Orders issued September 22, 2004 in Docket Nos. ER03-83-004 and ER03-86-003. Midwest ISO requests an effective date of October 30, 2004.

Midwest ISO states that it has electronically served a copy of this filing, with attachments, upon all Midwest ISO Members, Member representatives of Transmission Owners and Non-Transmission Owners, the Midwest ISO Advisory Committee participants, as well as all State commissions within the region. In addition, Midwest ISO states that the filing has been electronically posted on the Midwest ISO's Web site at http://www.midwestiso.org under the heading “Filings to FERC” for other interested parties in this matter. The Midwest ISO will provide hard copies to any interested parties upon request.

Comment Date: 5 p.m. eastern time on November 23, 2004.

6. PJM Interconnection, L.L.C.

[Docket No. ER04-11-001]

Take notice that on November 4, 2004, PJM Interconnection, L.L.C. (PJM) submitted a compliance filing pursuant to the Commission's letter order issued December 1, 2003 in Docket No. ER04-11-000.

PJM states that copies of the filing were served on parties on the official service list in Docket No. ER04-11.

Comment Date: 5 p.m. eastern time on November 26, 2004.

7. PJM Interconnection, L.L.C.

[Docket No. ER04-12-001]

Take notice that on November 4, 2004, PJM Interconnection, L.L.C. (PJM) submitted a compliance filing pursuant to the Commission's letter order issued December 1, 2003 in Docket No. ER04-12-000.

PJM states that copies of the filing were served on parties on the official service list in Docket No. ER04-12.

Comment Date: 5 p.m. eastern time on November 26, 2004.

8. Southern Company Services, Inc.

[Docket No. ER04-459-004]

Take notice that on November 4, 2004, Southern Company Services, Inc. (SCS), acting as agent for Alabama Power Company, Georgia Power Company, Gulf Power Company, Mississippi Power Company and Savannah Electric and Power Company, submitted a compliance filing pursuant to the Commission's order issued 10/5/2004 in Docket Nos. ER04-459-002 and 003, 109 FERC ¶ 61,014.

SCS states that copies of the filing were served on parties on the official service list in the Docket No. ER04-459.

Comment Date: 5 p.m. eastern time on November 26, 2004.

9. PJM Interconnection, L.L.C. and Virginia Electric and Power Company

[Docket No. ER04-829-004]

Take notice that on November 4, 2004, PJM Interconnection, L.L.C. (PJM) and Virginia Electric and Power Company submitted a compliance filing pursuant to the Commission's order issued October 5, 2004 in Docket Nos. ER04-829-000 and 001, 109 FERC ¶ 61,012.

Comment Date: 5 p.m. eastern time on November 26, 2004.

10. MeadWestvaco Energy Services LLC

[Docket No. ER04-1137-002]

Take notice that on November 4, 2004, MeadWestvaco Energy Services LLC filed supplemental information to its petition for acceptance of initial rate schedule, waivers and blanket authority originally filed on August 18, 2004 in Docket No. ER04-1137-000 and supplemented on October 8, 2004 in Docket No. ER04-1137-001.

Comment Date: 5 p.m. eastern time on November 26, 2004.

11. Southwest Power Pool, Inc.

[Docket No. ER05-156-001]

Take notice that on November 3, 2004, Southwest Power Pool, Inc. (SPP) submitted a supplement to its November 1, 2004 filing in Docket No. ER05-156-000 of a new Attachment AD to its regional Open Access Transmission Tariff. SPP requests an effective date of November 1, 2004.

SPP states that it has served a copy of its transmittal letter on each of its Members and Customers. SPP states that a complete copy of this filing will be posted on the SPP Web site http://www.spp.org, and is also being served on all affected State commissions.

Comment Date: 5 p.m. eastern time on November 24, 2004.

12. Southwestern Public Service Company

[Docket No. ER05-168-000]

Take notice that on November 2, 2004, Southwestern Public Service Company (SPS) tendered for filing proposed (1) changes in the Fuel Cost Adjustment clause (FCA) applicable to the following wholesale full requirements customers: Cap Rock Energy, Central Valley Electric Cooperative, Inc., Farmers' Electric Cooperative, Inc. of New Mexico, Lea County Electric Cooperative, Inc., Lyntegar Electric Cooperative, Inc., and Roosevelt County Electric Cooperative, Inc.; (2) changes in the FCA applicable to SPS's wholesale partial requirements customer, Golden Spread Electric Cooperative, Inc.; (3) changes in the FCA applicable to SPS's interruptible contract customer, Public Service Company of New Mexico; and (4) corresponding revised pages from SPS's power supply contracts with each of such customers, in compliance with the requirements of Order No. 614, including rate schedule designations. SPS requests an effective date of January 1, 2005.

SPS states that it has served a copy of the complete filing on each of the affected customers, the Public Utility Commission of Texas, and the New Mexico Public Regulation Commission. SPS also states that copies of the filing are available for public inspection in the offices of SPS in Amarillo, Texas.

Comment Date: 5 p.m. eastern time on November 23, 2004.

13. PPL Electric Utilities Corporation

[Docket No. ER05-169-000]

Take notice that on November 2, 2004, PPL Electric Utilities Corporation (PPL Electric) submitted revisions to PPL Electric Rate Schedule FERC No. 180, a transmission agreement between PPL Electric and Allegheny Electric Cooperative, Inc. (Allegheny). PPL Electric states that the revisions eliminate the reduction in the amount of power delivered to Allegheny under the agreement on account of transmission losses. PPL Electric requests an effective date of January 1, 2005.

PPL Electric states that the copies of the filing were served upon Allegheny.

Comment Date: 5 p.m. eastern time on November 23, 2004.

14. Southern California Edison Company

[Docket No. ER05-170-000]

Take notice that on November 2, 2004, Southern California Edison (SCE) submitted for filing the following agreements between SCE and State of California Department of Water Resources (CDWR) under FERC Electric Tariff, Second Revised Volume No. 6: Edmonston Pumping Plant Interconnection Facilities Agreement, Service Agreement No. 31; Pearblossom Pumping Plant Interconnection Facilities Agreement, Service Agreement No. 32; Oso Pumping Plant Interconnection Facilities Agreement, Service Agreement No. 33; William E. Warne Power Plant Interconnection Facilities Agreement, Service Agreement No. 34; and Alamo Power Plant Interconnection Facilities Agreement, Service Agreement No. 35. SCE also submitted the Devil Canyon Service Agreement for Wholesale Distribution Service, Service Agreement No. 126, under FERC Electric Tariff, First Revised Volume No. 5. SCE requests an effective date of January 1, 2005.

SCE states that copies of the filing were served upon the Public Utilities Commission of the State of California and CDWR.

Comment Date: 5 p.m. eastern time on November 23, 2004.

15. Bangor Hydro-Electric Co.

[Docket No. ER05-171-000]

Take notice that on November 2, 2004, Bangor Hydro-Electric Company (Bangor) filed proposed changes to its depreciation accrual rates under the Formula Rate provisions of Bangor's open access transmission tariff. Bangor requested an effective date of December 31, 2004.

Bangor states that copies of this filing were served on all interested parties.

Comment Date: 5 p.m. eastern time on November 23, 2004.

16. Tampa Electric Company

[Docket No. ER05-172-000]

Take notice that on November 2, 2004, Tampa Electric Company (Tampa Electric) tendered for filing a notice of cancellation of the service agreement with Koch Energy Trading, Inc., predecessor in interest to Entergy-Koch Trading, LP (Entergy-Koch) under Tampa Electric's Market-Based Sales Tariff. Tampa Electric proposes that the cancellation be made effective on November 2, 2004.

Tampa Electric states that copies of the filing have been served on Entergy-Koch and the Florida Public Service Commission.

Comment Date: 5 p.m. eastern time on November 23, 2004.

17. Illinois Power Company

[Docket No. ER05-173-000]

Take notice that on November 2, 2004, Illinois Power Company (Illinois Power) tendered for filing a Tariff for Limited Sales of Excess Energy at Market-Based Rates (Tariff). Illinois Power states that the Tariff would permit Illinois Power to sell to non-affiliates at certain times between January 1, 2005, and December 31, 2006, the limited amounts of energy that it purchases in excess of its real-time energy needs. Illinois Power requests an effective date of January 1, 2005.

Comment Date: 5 p.m. eastern time on November 23, 2004.

18. Midwest Independent Transmission System Operator, Inc.

[Docket No. ER05-174-000]

Take notice that on November 3, 2004, the Midwest Independent Transmission System Operator, Inc. (Midwest ISO) submitted an Interconnection and Operating Agreement among Rock County Transmission, LLC, Northern States Power Company d/b/a Xcel and the Midwest ISO.

Midwest ISO states that a copy of this filing was served on the parties to the Interconnection Agreement.

Comment Date: 5 p.m. eastern time on November 24, 2004.

19. Kansas City Power & Light Company

[Docket No. ER05-177-000]

Take notice that on November 3, 2004, Kansas City Power & Light Company (KCPL) submitted for filing the following revised service schedules for Load Regulation and Displacement Energy Service: City of Baldwin, Kansas—Rate Schedule FERC No. 85; City of Carrollton, Missouri—Rate Schedule FERC No. 86; Gardner, Kansas—Rate Schedule FERC No. 105; City of Garnett, Kansas—Rate Schedule FPC No. 78; City of Higginsville, Missouri—Rate Schedule FERC No. 108; City of Marshall, Missouri—Rate Schedule FPC No. 83; City of Osawatomie, Kansas—Rate Schedule FPC No. 77; City of Ottawa, Kansas—Rate Schedule FERC No. 90; and City of Salisbury, Missouri—Rate Schedule FERC No. 100.

KCPL states that copies of the filing were served upon KCPL's jurisdictional customers, as well as the Missouri Public Service Commission and the State Corporation Commission of Kansas.

Comment Date: 5 p.m. eastern time on November 24, 2004.

20. Westar Energy, Inc.

[Docket ER05-178-000]

Take notice that on November 3, 2004, Westar Energy, Inc. (Westar) submitted for filing a Notice of Cancellation for Rate Schedule FERC No. 222, an Electric Power Supply Agreement between Westar and the City of Muscotah, Kansas.

Westar states that copies of this filing were served on the City of Muscotah, Kansas and the Kansas Corporation Commission.

Comment Date: 5 p.m. eastern time on November 24, 2004.

21. AEP Texas North Company

[Docket No. ER05-179-000]

Take notice that on November 3, 2004, American Electric Power Service Corporation (AEPSC), as agent for AEP Texas North Company (AEPTNC) who was formerly called West Texas Utilities Company (WTU), submitted for filing an interconnection agreement between WTU and Brazos Electric Power Cooperative, Inc. (Brazos) that provides for an additional point of interconnection at AEPTNC's Spur Substation in Dickens County, Texas. AEPTNC requests an effective date of October 25, 2004.

AEPSC states that it has served copies of the filing on Brazos and the Public Utility Commission of Texas.

Comment Date: 5 p.m. eastern time on November 24, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3206 Filed 11-17-04; 8:45 am]

BILLING CODE 6717-01-P